DEPARTMENT OF DEFENSE

Department of the Air Force

[Docket ID USAF-2022-HQ-0008]

Proposed Collection; Comment Request

AGENCY: Department of the Air Force, Department of Defense (DoD).

ACTION: 60-Day information collection notice.

SUMMARY: In compliance with the Paperwork Reduction Act of 1995, the Department of the Air Force announces a proposed public information collection and seeks public comment on the provisions thereof. Comments are invited on: whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by November 22, 2022.

ADDRESSES: You may submit comments, identified by docket number and title, by any of the following methods:

Federal eRulemaking Portal: http://www.regulations.gov. Follow the instructions for submitting comments.

Mail: Department of Defense, Office of the Assistant to the Secretary of Defense for Privacy, Civil Liberties, and Transparency, Regulatory Directorate, 4800 Mark Center Drive, Attn: Mailbox 24, Suite 08D09, Alexandria, VA 22350-1700.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to Ms. Angela Duncan at the Department of Defense, Washington Headquarters Services, ATTN: Executive Services Directorate, Directives Division, 4800 Mark Center Drive, Suite 03F09-09, Alexandria, VA 22350-3100 or call 571-372-7574.

SUPPLEMENTARY INFORMATION:

Title; Associated Form; and OMB Number: Formative Research for Sexual Assault Leadership Training at USAF Academy; OMB Control Number 0701-0169.

Needs and Uses: This study supports the Sexual Assault Prevention and Response Office's (SAPRO) mission (and that of the larger USAF) to work toward an Air Force culture that is free of sexual violence. This effort will also support completion of USAF Academy SAPRO's DoD Junior Leader Working Group's plan of action and milestones. Ultimately, the implementation of the adapted curriculum may result in a reduced number of sexual assaults and enhanced psychological health and well-being among Airmen, enabling them to remain fit for duty. This study will collect formative research data through focus groups and interviews to inform recommendations to enhance the current USAF Academy sexual assault leadership training curriculum. Research partners at the University of Florida and RTI International will collect feedback from trainees in Squadron Officer School at Maxwell Air Force Base concerning perceived readiness for duty, perceptions of the leadership training received at USAF Academy, and opportunities for enhancement across the four-year USAF Academy curriculum.

Affected Public: Individuals or households.

Annual Burden Hours: 59.4 hours.

Number of Respondents: 330.

Responses per Respondent: 1.

Annual Responses: 330.

Average Burden per Response: 10.8 minutes.

Frequency: Once.

Dated: September 20, 2022.
Aaron T. Siegel,
Alternate OSD Federal Register Liaison Officer, Department of Defense.

[FR Doc. 2022-20673 Filed 9-22-22; 8:45 am]

BILLING CODE 5001-06-P